DEPARTMENT OF AGRICULTURE

Forest Service

Information Collection; Volunteer Application and Agreement for Natural and Cultural Resources Agencies

AGENCY: Forest Service, USDA.

ACTION: Notice; request for comment.

SUMMARY: In accordance with the Paperwork Reduction Act of 1995, the Forest Service is seeking comments from all interested individuals and organizations on the revision of a currently approved information collection, Volunteer Application and Agreement for Natural and Cultural Resources Agencies. This Information Collection Request also requests categorizing the associated forms as a Common forms, meaning Forest Service will only request approval for its own use of the forms, rather than aggregating the burden estimate across all Federal Agencies, as was done for previous actions on this OMB control number.

DATES: Comments must be received in writing on or before November 12, 2013 to be assured of consideration. Comments received after that date will be considered to the extent practicable.

ADDRESSES: Comments concerning this notice should be addressed to Nancy Coyote, Volunteers & Service, USDA Forest Service, 1400 Independence Avenue SW., Mailstop 1136, Washington, DC 20250-1136. Comments also may be submitted via email to: ncoyote@fs.fed.us.

The public may inspect comments received at USDA Forest Service, 1621 N Kent Street, Rosslyn Plaza East, Room 1010, Arlington, VA during normal business hours. Visitors are encouraged to call ahead to 703-605-4831 to facilitate entry to the building.

FOR FURTHER INFORMATION CONTACT: Nancy Coyote, Volunteers & Service, 503-347-9991.

Individuals who use telecommunication devices for the deaf (TDD) may call the Federal Relay Service (FRS) at 1-800-877-8339, between 8 a.m. and 8 p.m., Eastern Standard time, Monday through Friday.

SUPPLEMENTARY INFORMATION: Title: Volunteer Application and Agreement for Natural and Cultural Resources Agencies.

OMB Number: 0596-0080.

Expiration Date of Approval: December 31, 2013.

Type of Request: Revision of a currently approved collection.

Abstract: The collected information is needed by participating natural resources agencies to manage agency volunteer programs. Information is collected from potential and selected volunteers of all ages. Those under the age of 18 years must have written consent from a parent or guardian.

Participating Agencies

The volunteer programs of the following natural resource agencies are included:

1. Department of Agriculture: Forest Service and Natural Resources Conservation Service;

2. Department of the Interior: National Park Service, Fish and Wildlife Service, Bureau of Land Management, Bureau of Reclamation, and U.S. Geological Survey;

3. Department of Defense: U.S. Army Corps of Engineers; and

4. Department of Commerce: National Oceanic and Atmospheric Administration.

New Form Introduced With This Request

OF-301B Volunteer Sign-up Form for Groups: This form is used by participating resource agencies to document awareness and understanding, between a Federal agency and a partner organization with group participants, about the volunteer activities. Parental signatures of parents or guardians of minors are mandatory for applicants.

Once OMB approves the use of these Common forms, federal agencies may request OMB approval to use these Common forms without having to publish notices and request for public comments. Each agency must account for the burden associated with their use of the Common forms.

Estimate of Burden per Response: 6 to 15 minutes per form.

Type of Respondents: Individuals and Private Sector Volunteer Organizations.

Estimated Annual Number of Respondents: 83,690.

Estimated Annual Number of Responses per Respondent: 1.77.

Estimated Total Annual Burden on Respondents: 24,411 hours.

Comment is Invited: Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: September 6, 2013.
James M. Peña,
Associate Deputy Chief, National Forest System.

[FR Doc. 2013-22259 Filed 9-12-13; 8:45 am]

BILLING CODE 3410-11-P